DEPARTMENT OF JUSTICE

Antitrust Division

Notice Pursuant to the National Cooperative Research and Production Act of 1993—Portland Cement Association

Notice is hereby given that, on August 14, 2008, pursuant to Section 6(a) of the National Cooperative Research and Production Act of 1993, 15 U.S.C. 4301 et seq. (“the Act”), Portland Cement Association (“PCA”) has filed written notifications simultaneously with the Attorney General and the Federal Trade Commission disclosing changes in its membership. The notifications were filed for the purpose of extending the Act's provisions limiting the recovery of antitrust plaintiffs to actual damages under specified circumstances. Specifically, California Portland Cement Company, Glendale, CA; CPC Terminals, Glendale, AZ; and Arizona Portland Cement Co., Phoenix, AZ have changed their names to CalPortland, Glendale, CA. In addition, MikroPul, Charlotte, NC has become an Associate Member.

No other changes have been made in either the membership or planned activity of the group research project. Membership in this group research project remains open, and PCA intends to file additional written notification disclosing all changes in membership.

On January 7, 1985, PCA filed its original notification pursuant to Section 6(a) of the Act. The Department of Justice published a notice in the Federal Register pursuant to Section 6(b) of the Act on February 5, 1985 (50 FR 5015).

The last notification was filed with the Department on February 25, 2008. A notice was published in the Federal Register pursuant to Section 6(b) of the Act on March 24, 2008 (73 FR 15538).

Patricia A. Brink,
Deputy Director of Operations, Antitrust Division.

[FR Doc. E8-23055 Filed 10-1-08; 8:45 am]

BILLING CODE 4410-11-M